DEPARTMENT OF THE INTERIOR

National Park Service

[NPS-WASO-NRNHL-21141; PPWOCRADI0, PCU00RP14.R50000]

National Register of Historic Places; Notification of Pending Nominations and Related Actions

AGENCY: National Park Service, Interior.

ACTION: Notice.

SUMMARY: The National Park Service is soliciting comments on the significance of properties nominated before May 21, 2016, for listing or related actions in the National Register of Historic Places.

DATES: Comments should be submitted by June 17, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION:

The properties listed in this notice are being considered for listing or related actions in the National Register of Historic Places. Nominations for their consideration were received by the National Park Service before May 21, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Santa Clara County

Willow Glen Trestle over Los Gatos Creek, On former Western Pacific RR. approx. 1/4 mi. N. of jct. of Coe Ave. & Leona Ct., San Jose, 16000422

FLORIDA

Orange County

Laughlin, James, House, 5538 Sydonie Dr., Mount Dora, 16000423

MASSACHUSETTS

Hampden County

Chapin School, 40 Meadow St., Chicopee, 16000424

OREGON

Clackamas County

Willamette National Cemetery, 11800 SE. Mt. Scott Blvd., Portland, 16000426

PENNSYLVANIA

Philadelphia County

Delaware Station of the Philadelphia Electric Company, The, 1325 Beach St., Philadelphia, 16000427

Times Finishing Works, 1136-1148 N. American St., Philadelphia, 16000428

WISCONSIN

Dane County

Willow Drive Mounds and Habitation Site Complex, (Late Woodland Stage in Archeological Region 8 MPS) N. end of Willow Dr., Madison, 16000430

Marathon County

Dells of the Eau Claire County Park, P2150 Cty. Rd. Y, Plover, 16000429

A request for removal was received for the following resource:

TENNESSEE

Marion County

Marion Memorial Bridge, US 41 at Nickajack Lake, Haletown, 07000930

Authority: 60.13 of 36 CFR part 60.

Dated: May 23, 2016.
J. Paul Loether,
Chief, National Register of Historic Places/National Historic Landmarks Program.

[FR Doc. 2016-12984 Filed 6-1-16; 8:45 am]

BILLING CODE 4312-51-P